DEPARTMENT OF THE TREASURY

Office of Foreign Assets Control

Additional Identifying Information Associated With Persons Whose Property and Interests in Property Are Blocked Pursuant to Executive Order 13581of July 24, 2011, “Blocking Property of Transnational Criminal Organizations.”

AGENCY: Office of Foreign Assets Control, Treasury.

ACTION: Notice.

SUMMARY: The Department of the Treasury's Office of Foreign Assets Control (“OFAC”) is publishing additional identifying information associated with the four entities listed in the Annex to Executive Order 13581 of July 24, 2011, “Blocking Property of Transnational Criminal Organizations.”

FOR FURTHER INFORMATION CONTACT: Assistant Director, Sanctions Compliance & Evaluation Office of Foreign Assets Control Department of the Treasury, 1500 Pennsylvania Avenue, NW., (Treasury Annex), Washington, DC 20220, Tel.: 202/622-2490.

SUPPLEMENTARY INFORMATION:

Electronic and Facsimile Availability

This document and additional information concerning OFAC are available from OFAC's Web site (http://www.treas.gov/ofac). Certain general information pertaining to OFAC's sanctions programs is available via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

The Annex to the Order lists four entities whose property and interests in property are blocked pursuant to the Order. OFAC is publishing additional identifying information associated with these entities. Property and interests in property of one of those entities, identified below by the code “[SDNTK]”, also are blocked pursuant to another OFAC sanctions program.

The listings for these entities on OFAC's list of Specially Designated Nationals and Blocked Persons appear as follows:

Entities

1. THE BROTHERS' CIRCLE (a.k.a. “MOSCOW CENTER”; f.k.a. “FAMILY OF ELEVEN”; f.k.a. “THE TWENTY”) [TCO]

2. CAMORRA, Naples, Italy; Campania, Italy [TCO]

3. YAKUZA (a.k.a. BORYOKUDAN; a.k.a. GOKUDO), Japan [TCO]

4. LOS ZETAS, Mexico [SDNTK] [TCO]

Dated: August 11, 2011.
Adam J. Szubin,
Director, Office of Foreign Assets Control.

[FR Doc. 2011-20956 Filed 8-16-11; 8:45 am]

BILLING CODE 4811-AL-P